DEPARTMENT OF TRANSPORTATION

Federal Aviation Administration

14 CFR Parts 125 and 135

Regulatory Review—Reopen of Comment Period

AGENCY: Federal Aviation Administration

ACTION: Notice and request for comments.

SUMMARY: By this notice, the Federal Aviation Administration (FAA) reopens the comment period for its regulatory review of 14 CFR parts 135 and 125. The part 135/125 Aviation Rulemaking Committee had its first meeting on June 10-12, 2003, and members requested that the comment period be reopened to accommodate additional public comments to the docket. The FAA agrees and by this notice reopens the comment period for Docket No. FAA-2003-13923 until November 18, 2003.

DATES: The FAA will consider all comments on this regulatory review filed on or before November 18, 2003. We will consider comments filed late if it is possible to do so without incurring expense or delay.

ADDRESSES: You may submit comments to FAA-2003-13923 by any of the following methods:

• Web site: http://dms.dot.gov. Follow the instructions for submitting comments on the DOT electronic docket site.

• Fax: 1-202-493-2251

• Mail: Docket Management Facility: U.S. Department of Transportation, 400 Seventh Street, SW., Nassif Building, Room PL-401, Washington, DC 20590-001.

• Hand Delivery: Room PL-401 on the plaza level of the Nassif Building, 400 Seventh Street, SW., Washington, DC between 9 am and 5 pm, Monday through Friday, except Federal Holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the SUPPLEMENTARY INFORMATION section of this document. Note that all comments received will be posted without change to http://dms.dot.gov, including any personal information provided. Please see the Privacy Act heading under SUPPLEMENTARY INFORMATION and Regulatory Notices.

FOR FURTHER INFORMATION CONTACT: Katherine Perfetti, AFS-200, 800 Independence Ave. SW., Washington, DC 20591 (202) 267-3760, facsimile at (202) 267-5229, or by e-mail: Katherine.Perfetti@faa.gov.

SUPPLEMENTARY INFORMATION:

Background

By Federal Register notice of February 3, 2003 (68 FR 5488), the FAA announced a comprehensive regulatory review and rewrite of parts 135 and 125. It noted that issues under review may include:

a. Design and manufacture of new aircraft that current regulations do not address adequately (for example, large airships, powered lift aircraft).

b. Certain large airplanes with modifications to payload capacity and passenger seat configuration operating under part 91 or 135.

c. New equipment and technologies not adequately addressed in current regulations.

d. International harmonization, ICAO commercial standards, and increased international operations.

The FAA invited members of the public to serve on the Part 135/125 Aviation Rulemaking Committee and/or work groups by notifying the person listed in the notice before March 5, 2003. In addition, the notice solicited comments from the public to docket number FAA-2003-13923 to be filed on or before June 3, 2003.

The Part 125/135 Aviation Rulemaking Committee met on June 10-12, 2003, in Herndon, Virginia to review the docket and to assign the issues posted there to the various work groups. At the opening session of the meeting on June 10, some members requested that the docket be reopened for receiving additional public comments. The FAA agrees with the reopening of the docket and publishes this notice to advise the public of the extended opportunity to comment on or provide any issues pertinent to this review. The reopened comment period will close on November 18, 2003, because the third meeting of the committee is planned for November 19-21, 2003.

Public Participation

The FAA invites interested parties to submit specific, detailed written comments, or provide input on issues pertinent to parts 125 and 135. All comments submitted to the docket before November 18, 2003, will be considered in the committee discussions.

Privacy Act

Anyone is able to search the electronic form of all comments received into our dockets by the name of the individual submitting the comment (or signing the comment, if submitted on behalf of an association, business, labor union, etc.). You may review DOT's complete Privacy Statement in the Federal Register published on April 11, 2000 (volume 65, Number 70, pages 19477-78), or you may visit http://dms.dot.gov.

Public Web Site

The FAA also reminds the public that a public Web site, http:www.l.faa.gov/avr/arm/part135/index.cfm has been established to provide information on the committee and the review. As part of that website, the FAA provides a list of members of the committee who may be contacted for additional information on a specific area of the review and information on future meetings of the committee.

Issued in Washington, DC on July 9, 2003.
John M. Allen,
Acting Director, Flight Standards Service.

[FR Doc. 03-18070 Filed 7-16-03; 8:45 am]

BILLING CODE 4910-13-P